DEPARTMENT OF ENERGY

Federal Energy Regulatory Commission

[Docket No. CP00-401-000]

Suprex Energy Corporation; Notice of Application For Presidential Permit and Natural Gas Act Section 3 Authorization

July 14, 2000.

Take notice that on July 7, 2000, Suprex Energy Corporation (Suprex Energy) 435-4th Avenue S.W., Suite 450, Calgary, Alberta T2P 3A8, filed an application in Docket No. CP00-401-000 seeking a Presidential Permit, pursuant to Executive Orders Nos. 10485 and 12038, and a Natural Gas Act Section 3 authorization, pursuant to Part 153 of the Commission's Regulations, all as more fully described in Suprex Energy's application. The details of Suprex Energy's application are set forth in its application, which is on file with the Commission and open to public inspection.

The text of this application may also be viewed at http://www.ferc.fed.us/online/rims.htm (call 202-208-2222 for help). Any initial questions regarding the application should be directed to Nello W. Marano, the company President, at the above address or by phone at (403) 294-1454.

Suprex Energy seeks authority to site, construct, operate, maintain, and connect pipeline facilities at the International Boundary between the United States and Canada in Toole County, Montana, for purposes of importing unprocessed natural gas into the United States from Canada. Suprex Energy currently an owner of a natural gas gathering system in the Province of Alberta. Suprex Energy proposes to construct certain natural gas gathering and metering facilities in Alberta near the International Boundary. It proposes to construct a 2,543 feet, 6-inch diameter pipeline extending directly south from the metering station and across the Canada-United States border at Section 6 T37N R3W in the Toole County. The distance of Suprex Energy's 6-inch diameter pipeline in the United States will be 30 feet. This 30 foot section of pipeline will connect with a new 6-inch diameter gathering pipeline to be constructed by Suprex Energy Inc. (SEI), a Montana incorporated company that is a wholly owned subsidiary of Suprex Energy Corporation.

The purpose of the project is to gather and transport shut-in, unprocessed natural gas from natural gas wells in the Coutts Red Coulee area of Alberta, across the International Boundary to eventually be delivered to the existing gas gathering system owned and operated by the Montana Power Gas Company in the Border Field area of northern Montana which has available gas processing capacity.

Any person desiring to be heard or to make any protest with reference to said application should on or before August 4, 2000, file with the Federal Energy Regulatory Commission, 888 First Street, NE, Washington, D.C. 20426, a motion to intervene or a protest in accordance with the requirements of the Commission's Rules of Practice and Procedure, 18 CFR 385.211 or 385.214, and the Commission's Regulations under the Natural Gas Act, 18 CFR 157.10. All protests filed with the Commission will be considered by it in determining the appropriate action to be taken, but will not serve to make the protestants parties to the proceeding. Any person wishing to become a party to a proceeding or to participate as a party in any hearing therein must file a motion to intervene in accordance with the Commission's Rules of Practice and Procedure.

Take further notice that, pursuant to the authority contained in and subject to jurisdiction conferred upon the Federal Energy Regulatory Commission by Sections 3 and 15 of the Natural Gas Act and the Commission Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given. Under the procedure herein provided for, unless otherwise advised, it will be unnecessary for Coral Mexico to appear or be represented at the hearing.

Linwood A. Watson, Jr.,
Acting Secretary.

[FR Doc. 00-18300 Filed 7-19-00; 8:45 am]

BILLING CODE 6717-01-M